DEPARTMENT OF COMMERCE

Foreign-Trade Zones Board

[B-44-2021]

Foreign-Trade Zone (FTZ) 136—Brevard County, Florida, Authorization of Production Activity, Airbus OneWeb Satellites North America LLC, (Satellites and Satellite Systems), Merritt Island, Florida

On May 26, 2021, Airbus OneWeb Satellites North America LLC submitted a notification of proposed production activity to the FTZ Board for its facility within FTZ 136, in Merritt Island, Florida.

The notification was processed in accordance with the regulations of the FTZ Board (15 CFR part 400), including notice in the Federal Register inviting public comment (86 FR 30252, June 7, 2021). On September 23, 2021, the applicant was notified of the FTZ Board's decision that no further review of the activity is warranted at this time. The production activity described in the notification was authorized, subject to the FTZ Act and the FTZ Board's regulations, including section 400.14.

Dated: September 23, 2021.
Andrew McGilvray,
Executive Secretary.

[FR Doc. 2021-21039 Filed 9-27-21; 8:45 am]

BILLING CODE 3510-DS-P